DEPARTMENT OF JUSTICE

Notice of Extension of Public Comment Period

On July 11, 2023, the Department of Justice lodged a proposed consent decree with the United States District Court for the District of Idaho in the lawsuit entitled United States of America v. J.R. Simplot Company, Civil Action No. 1:23-cv-322. The United States filed this lawsuit under the Resource Conservation and Recovery Act, the Clean Air Act, the Comprehensive Environmental Response, Compensation, and Liability Act, and the Emergency Planning and Community Right-To-Know Act. The United States' complaint seeks injunctive relief and civil penalties for alleged violations of these statutes at defendant's phosphoric acid and fertilizer manufacturing plant located near Pocatello, Idaho, known as the Don Plant. The proposed consent decree requires defendant to implement injunctive relief and mitigation measures to address the alleged violations and pay a $1.5 million civil penalty.

On July 17, 2023, the Department of Justice published notice of the proposed consent decree and published a corrected notice on July 25, 2023 (88 FR 47907). The notice started, and the corrected notice re-started, a 30-day period for the submission of comments on the proposed consent decree. The Department of Justice has received requests for an extension of the comment period. In consideration of the requests, notice is hereby given that the Department of Justice has extended the comment period on the proposed consent decree by an additional 30 days, up to and including September 25, 2023.

Comments should be addressed to the Assistant Attorney General, Environment and Natural Resources Division, and should refer to United States of America v. J.R. Simplot Company, D.J. Ref. No. 90-7-1-08388/23. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $127.25 (25 cents per page reproduction cost) payable to the United States Treasury. For a paper copy without the Appendices and signature pages, the cost is $18.25.

Kathryn C. Macdonald,
Assistant Section Chief, Environmental Enforcement Section, Environment and Natural Resources Division.

[FR Doc. 2023-16493 Filed 8-2-23; 8:45 am]

BILLING CODE 4410-15-P